DEPARTMENT OF ENERGY

Federal Energy Regulatory Commission

Combined Notice of Filings

Take notice that the Commission has received the following Natural Gas Pipeline Rate and Refund Report filings:

Filings Instituting Proceedings

Docket Numbers: RP12-383-000

Applicants: Transcontinental Gas Pipe Line Company, LLC

Description: Transco Tariff Clean-up Filing to be effective 3/18/2012.

Filed Date: 2/16/12.

Accession Number: 20120216-5045

Comments Due: 5 p.m. ET 2/28/12

Docket Numbers: RP12-384-000

Applicants: Wyoming Interstate Company, L.L.C.

Description: WIC's Transportation Service Agreements Filing to be effective 3/19/2012.

Filed Date: 2/16/12.

Accession Number: 20120216-5130

Comments Due: 5 p.m. ET 2/28/12

Docket Numbers: RP12-385-000

Applicants: Bobcat Gas Storage

Description: Termination of Non-conforming Agreements to be effective 4/1/2012.

Filed Date: 2/17/12.

Accession Number: 20120217-5022

Comments Due: 5 p.m. ET 2/29/12

Docket Numbers: RP12-386-000

Applicants: Gulf South Pipeline Company, LP

Description: Gulf South Pipeline Company, LP submits tariff filing per 154.204: Amendment Negotiated Rate Agreement—Virginia Natural 34695-6 to be effective 1/6/2012.

Filed Date: 2/17/12.

Accession Number: 20120217-5031

Comments Due: 5 p.m. ET 2/29/12

Any person desiring to intervene or protest in any of the above proceedings must file in accordance with Rules 211 and 214 of the Commission's Regulations (18 CFR 385.211 and 385.214) on or before 5 p.m. Eastern time on the specified comment date. Protests may be considered, but intervention is necessary to become a party to the proceeding.

Filings in Existing Proceedings

Docket Numbers: RP12-250-000

Applicants: Kern River Gas Transmission Company

Description: Response of Kern River Gas Transmission to Order Requesting Additional Information.

Filed Date: 2/14/12.

Accession Number: 20120214-5056

Comments Due: 5 p.m. ET 2/23/12

Docket Numbers: RP11-1873-002

Applicants: Eastern Shore Natural Gas Company

Description: Creditworthiness Revision—Sheet No 147 to be effective 4/7/2011.

Filed Date: 2/16/12.

Accession Number: 20120216-5174

Comments Due: 5 p.m. ET 2/23/12

Docket Numbers: RP12-359-001

Applicants: CenterPoint Energy Gas Transmission Company, LLC

Description: CEGT LLT—February 2010 Negotiated Rate Filing Amended 2-16-20 to be effective 2/1/2012.

Filed Date: 2/16/12.

Accession Number: 20120216-5149

Comments Due: 5 p.m. ET 2/28/12

Docket Numbers: RP11-1524-001

Applicants: Total Peaking Services, L.L.C.

Description: Total Peaking Services, LLC—Compliance Filing in Docket No. RP11-1524 to be effective 11/1/2010.

Filed Date: 2/17/12.

Accession Number: 20120217-5028

Comments Due: 5 p.m. ET 2/29/12

Any person desiring to protest in any the above proceedings must file in accordance with Rule 211 of the Commission's Regulations (18 CFR 385.211) on or before 5 p.m. Eastern time on the specified comment date.

The filings are accessible in the Commission's eLibrary system by clicking on the links or querying the docket number.

eFiling is encouraged. More detailed information relating to filing requirements, interventions, protests, and service can be found at: http://www.ferc.gov/docs-filing/efiling/filing-req.pdf. For other information, call (866) 208-3676 (toll free). For TTY, call (202) 502-8659.

Dated: February 17, 2012.
Nathaniel J. Davis, Sr.,
Deputy Secretary

[FR Doc. 2012-4344 Filed 2-23-12; 8:45 am]

BILLING CODE 6717-01-P